POSTAL RATE COMMISSION

Briefings on Accounting Changes and Carrier Costs

AGENCY: Postal Rate Commission.

ACTION: Notice of public briefing.

SUMMARY: The Postal Rate Commission will host two briefings by the United States Postal Service in November and December. The first will cover certain accounting and reporting changes; the second will address a new carrier cost study. The briefings are open to the public. They will be held in the Postal Rate Commission's hearing room.

DATES: 1. November 20, 2003 (9:30 a.m.-11:30 a.m.)—accounting and reporting changes.

2. December 3, 2003 (10 a.m.-12)—carrier cost study.

ADDRESSES: Postal Rate Commission (hearing room), 1333 H Street, NW., Washington, DC 20268-0001, Suite 300.

FOR FURTHER INFORMATION CONTACT: Stephen L. Sharfman, General Counsel, 202-789-6818.

SUPPLEMENTARY INFORMATION: The United States Postal Service will present a public briefing on its new general ledger accounting system on November 20, 2003 at 9:30 a.m. in the Postal Rate Commission's hearing room. The Service began using this new system on October 1, 2003, and its introduction coincides with adoption of a postal fiscal year that is identical to the U.S. government's fiscal year. Accounting period reports will be replaced with calendar month financial reporting. The data from the general ledger system is the primary input into many of the Postal Service's annual reports, such as the Cost and Revenue Analysis report and the annual financial statements found in the Postmaster General's annual report. This system is also one of the primary sources for the development of the revenue requirement during rate filings.

The Service will present a second public briefing on December 3, 2003 at 10 a.m., also in the Commission's hearing room, on the new methodology the Service used to develop the segment 7 city carrier street time costs that were filed with the Commission on May 20, 2003 as part of the FY 2002 Cost Segments and Components report. The new methodology replaces the cost treatment that has been used by the Service since the 1980s. It is based on data collected in May and June 2002 and involves new cost components.

Steven W. Williams,
Secretary.

[FR Doc. 03-26406 Filed 10-17-03; 8:45 am]

BILLING CODE 7710-FW-P